DEPARTMENT OF ENERGY

Federal Energy Regulatory Commission

Notice of Availability of the Draft Environmental Impact Statement for the Proposed Atlantic Coast Pipeline, Supply Header Project, and Capacity Lease Proposal

| Docket Nos.
Atlantic Coast Pipeline, LLC | CP15-554-000, CP15-554-001
Dominion Transmission, Inc | CP15-555-000
Piedmont Natural Gas Company, Inc | CP15-556-000

The staff of the Federal Energy Regulatory Commission (FERC or Commission) has prepared a draft environmental impact statement (EIS) for the Atlantic Coast Pipeline (ACP) and Supply Header Project (SHP) as proposed by Atlantic Coast Pipeline, LLC (Atlantic) and Dominion Transmission, Inc. (DTI), respectively, in the above-referenced dockets. Atlantic and DTI request authorization to construct and operate a total of 641.3 miles of natural gas transmission pipeline and associated facilities, and three new natural gas-fired compressor stations, and to modify four existing compressor stations. The projects would provide about 1.44 billion cubic feet per day of natural gas to electric generation, distribution, and end use markets in Virginia and North Carolina. In addition, Atlantic and Piedmont Natural Gas Co., Inc. (Piedmont) request authorization to allow Atlantic to lease capacity on Piedmont's existing pipeline distribution system in North Carolina for use by Atlantic (Capacity Lease Proposal). No construction or facility modifications are proposed with the Capacity Lease Proposal.

The draft EIS assesses the potential environmental effects of the construction and operation of the projects in accordance with the requirements of the National Environmental Policy Act (NEPA). The FERC staff concludes that approval of the projects would have some adverse and significant environmental impacts; however, the majority of impacts would be reduced to less-than-significant levels with the implementation of the Atlantic's and DTI's proposed mitigation and the additional measures recommended in the draft EIS.

The U.S. Department of Agriculture—Forest Service (FS); U.S. Army Corps of Engineers; U.S. Environmental Protection Agency; U.S. Fish and Wildlife Service—Great Dismal Swamp National Wildlife Refuge; West Virginia Department of Environmental Protection; and West Virginia Division of Natural Resources participated as cooperating agencies in the preparation of the draft EIS. Cooperating agencies have jurisdiction by law or special expertise with respect to resources potentially affected by the proposals and participate in the NEPA analysis. Further, the FS may use the EIS when it considers amendments to Land and Resource Management Plans (LRMPs) for the proposed crossings of the Monongahela National Forest (MNF) and George Washington National Forest (GWNF). Although the cooperating agencies provide input to the conclusions and recommendations presented in the draft EIS, each agency will present its own conclusions and recommendations in its respective record of decision or determination for the projects.

The draft EIS addresses the potential environmental effects of the construction and operation of the following proposed project facilities:

The ACP includes:

• 519.1 miles of new 42- and 36-inch-diameter natural gas pipeline in West Virginia, Virginia, and North Carolina;

• 84.6 miles of 20- and 16-inch-diameter natural gas pipeline in Virginia and North Carolina;

• three new compressor station in Lewis County, West Virginia; Buckingham County, Virginia; and Northampton County, North Carolina; and

• nine meter stations, along with pig launchers/receivers and mainline valves.

The SHP includes:

• 37.5 miles of new 36-inch-diameter natural gas pipeline in Pennsylvania and West Virginia;

• modifications at four existing compressor stations in Westmoreland and Green Counties Pennsylvania and Marshall and Wetzel Counties West Virginia;

• abandonment of existing compressor units and associated facilities in Wetzel County, West Virginia; and

• one meter station, along with pig launchers/receivers and mainline valves.

Actions of the Forest Service

The FS's purpose and need for the proposed action is to respond to a special use application submitted by Atlantic on November 12, 2015, to allow the construction and operation of the ACP on national forest system (NFS) lands managed by the MNF and the GWNF. If the FS decides to authorize the pipeline crossing of NFS lands and issue a special use permit, the FS has determined that amendments to each national forest LRMP would be needed.

Project-specific plan amendments would be needed to deviate from the precise wording of forest plan standards for the construction and operation of the ACP. These amendments are considered “project-specific” amendments because they would not change FS requirements for other projects or authorize any other actions. Additionally, if the proposed route is authorized and a special use permit issued, the GWNF LRMP would need to be amended to change the current management prescriptions in the pipeline's operational corridor to Management Prescription Area (Rx) 5C-Designated Utility Corridors. The MNF does not have LRMP direction that would require a similar plan amendment to reallocate management prescriptions. Therefore, this amendment is considered a “plan-level” amendment and would change future management direction for the lands reallocated to the new management prescription. The FS has also identified other potential amendments that may be required, pending survey information and analyses that are not currently available.

Pursuant to Title 40 of the Code of Federal Regulations, Part 1506.3(c) (40 CFR 1506.3(c)), the FS may adopt and use the EIS developed by FERC to consider authorization for the construction and operation of the ACP crossing NFS lands. Further, the FS may use this EIS when it considers amendments to the LRMPs that would be required for the proposed crossings of the MNF and GWNF. The FS will prepare separate Records of Decision for the authorization decision and for the plan amendments decisions, after issuance of the FERC final EIS.

The following amendments have been proposed by the FS as part of the proposed action in the FERC draft EIS:

Monongahela National Forest

The type of amendment applicable to the MNF would be a project-specific amendment. This amendment would not change FS requirements for other projects or authorize any other actions.

Potential Amendment 1: The MNF LRMP may need to be amended to allow construction of the ACP to temporarily exceed standards identified under management direction for soils and water, specifically forest-wide standards SW06 and SW07, provided that design criteria, mitigation measures, project requirements, and/or monitoring activities agreed upon by the FS are implemented as needed to achieve adequate slope and soil stability.

Other potential amendments may be needed pending the outcome of ongoing analyses and development of project design and mitigation.

George Washington National Forest

The first type of LRMP amendment applicable to the GWNF would be a plan-level amendment that would change land allocations. This would change future management direction for the lands reallocated to the new Rx and is required by LRMP Standards FW-243 and FW-244.

Proposed Amendment 1: The LRMP would be amended to reallocate 102.3 acres to the Rx 5C-Designated Utility Corridors from these Rxs: 7E1-Dispersed Recreation Areas (7 acres), and 13-Mosaics of Habitat (95 acres). Rx 11-Riparian Corridors would remain embedded within the new Rx 5C area.

Rx 5C-Designated Utility Corridors contains special uses which serve a public benefit by providing a reliable supply of electricity, natural gas, or water essential to local, regional, and national economies. The new Rx 5C land allocation would be 53.5 feet wide, the width of the final operational right-of-way of the ACP. The area would not cross into the Rx 4A-Appalachian National Scenic Area but would stop and start at the existing Rx 4A boundary. The Rx4A would continue to be managed for the Appalachian National Scenic Trail.

The second type of amendment applicable to the GWNF would be a project-specific amendment that would apply only to the construction and operation of the ACP. The following standards would require a temporary waiver to allow the project to proceed. These amendments would not change LRMP requirements for other projects or authorize any other actions.

Proposed Amendment 2: The LRMP would be amended to allow construction of the ACP to exceed restrictions on soil conditions and riparian corridor conditions as described in LRMP Standards FW-5, FW-15, FW-16, FW-17, and 11-019, provided that mitigation measures or project requirements agreed upon by the FS are implemented as needed.

Proposed Amendment 3: The LRMP would be amended to allow the ACP to cross the Appalachian National Scenic Trail in Augusta County, Virginia (reference LRMP Standard 4A-025).

Potential Amendment 4: The LRMP may need to be amended to allow the removal of old growth trees within the construction corridor of ACP (reference LRMP Standard FW-85).

Potential Amendment 5: The LRMP may need to be amended to allow major reconstruction of a NFS road within the Rx 2C3 area to provide access for pipeline construction. This is contingent on the final location of access roads (reference LRMP Standard 2C3-015).

Potential Amendment 6: The LRMP may need to be amended to allow the ACP to not immediately meet Scenic Integrity Objectives; however, mitigation measures, including vegetation management and restoration actions, are expected to improve visual quality over an extended timeframe (reference LRMP Standard FW-182).

The FS is requesting public comments on the authorization of the ACP on NFS lands and the draft proposed and potential amendments of the LRMPs that would allow the ACP to cross the MNF and GWNF. All comments must be submitted to the FERC as directed in this notice. The FS decision to authorize the ACP will be subject to FS predecisional administrative review procedures established in 36 CFR 218. The MNF Potential Amendment 1, GWNF Proposed Amendments 2 and 3, and Potential Amendments 4, 5, and 6 were developed in accordance with 36 CFR 219 (2012 version) regulations but will be subject to the administrative review procedures under 36 CFR 218 regulations Subparts A and B, per 36 CFR 219.59(b). GWNF Proposed Amendment 1 was developed in accordance to 36 CFR 219 (2012) regulations and will be subject to the administrative review procedures under 36 CFR 219 Subpart B. Refer to the applicable administrative review regulations for eligibility requirements.

All comments must be submitted to the FERC, the lead federal agency, within the timeframe stated in this Notice of Availability. Refer to Docket No. CP15-554-000 (ACP) in all correspondence to ensure that your comments are correctly filed in the record. You may submit your comments to the FERC using one of the four methods listed below.

Distribution and Comments on the Draft Environmental Impact Statement

The FERC staff mailed copies of the draft EIS to federal, state, and local government representatives and agencies; elected officials; environmental and public interest groups; Native American tribes; potentially affected landowners and other interested individuals and groups; newspapers and libraries in the project areas; and parties to this proceeding. Paper copy versions of this draft EIS were mailed to those specifically requesting them; all others received a CD version. In addition, the draft EIS is available for public viewing on the FERC's Web site (www.ferc.gov) using the eLibrary link. A limited number of copies of the draft EIS are available for distribution and public inspection at:

Federal Energy Regulatory Commission, Public Reference Room, 888 First Street NE., Room 2A, Washington, DC 20426, (202) 502-8371.

Any person wishing to comment on the draft EIS may do so. To ensure consideration of your comments on the proposals in the final EIS, it is important that the Commission receive your comments by April 6, 2017.

For your convenience, there are four methods you can use to submit your comments to the Commission. In all instances, please reference the appropriate docket numbers (CP15-554-000 and CP15-554-001 for ACP; CP15-555-000 for SHP; or CP15-556-000 for Capacity Lease) with your submission. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project.

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type.

(3) You can file a paper copy of your comments by mailing them to the following address:

Nathaniel J. Davis, Sr., Deputy Secretary, Federal Energy Regulatory Commission, 888 First Street NE., Room 1A, Washington, DC 20426.

(4) In lieu of sending written or electronic comments, the Commission invites you to attend one of the public comment sessions its staff will conduct in the project area to receive comments on the draft EIS. We encourage interested groups and individuals to attend and present oral comments on the draft EIS. The sessions are scheduled as follows:

Date and time | Location
Monday, February 13, 2017, 5:00-9:00 p.m | Doubletree Hotel, 1965 Cedar Creek Road, Fayetteville, NC 28312.
Tuesday, February 14, 2017, 5:00-9:00 p.m | Forest Hills Middle School, 1210 Forest Hills Road, Wilson, NC 27893.
Wednesday, February 15, 2017, 5:00-9:00 p.m | Hilton Garden Inn Roanoke Rapids, 111 Carolina Crossroads Parkway, Roanoke Rapids, NC 27870.
Thursday, February 16, 2017, 5:30-9:30 p.m | Hilton Garden Inn Conference Center, 100 East Constance Road, Suffolk, VA 23434.
Tuesday, February 21, 2017, 5:00-9:00 p.m | Moton Museum, 900 Griffin Boulevard, Farmville, VA 23901.
Wednesday, February 22, 2017, 5:00-9:00 p.m | Nelson County High School, 6919 Thomas Nelson Highway, Route 29, Lovingston, VA 22949.
Thursday, February 23, 2017, 5:00-9:00 p.m | Holiday Inn Hotel and Conference, 152 Fairway Lane, Staunton, VA 24401.
Tuesday, February 28, 2017, 5:00-9:00 p.m | Highland Center, 61 Highland Center Drive, Monterey, VA 24465.
Wednesday, March 1, 2017, 5:00-9:00 p.m | Gandy Dance Theater, 359 Beverly Pike, Elkins, WV 26241.
Thursday, March 2, 2017, 5:00-9:00 p.m | Marlinton Community Wellness Center, 320 9th Street, Marlinton, WV 24954.

There will not be a formal presentation by Commission staff at any of the ten public comment sessions, although a format outline handout will be made available. All sessions will begin at 5:00 p.m., with the exception of the session on Thursday, February 16, 2017, which will begin at 5:30 p.m. If you wish to provide verbal comments, the Commission staff will hand out numbers in the order of your arrival. Number distribution will be discontinued at 8:00 p.m. in order to ensure all comments are received by the session closing time. Comments will be taken until 9:00 p.m. (or 9:30 p.m. at the February 16 session). However, if no additional numbers have been handed out and all individuals who wish to provide comments have had an opportunity to do so, staff may conclude the session at 8:00 p.m., or after the last comment is taken.

The primary goal of the public sessions is to allow individuals to provide verbal comments on the draft EIS. Individual verbal comments will be taken on a one-on-one basis with a Court Reporter (with FERC staff or representative present), called up in the order of the numbers received. Because we anticipate considerable interest from concerned citizens, this format is designed to receive the maximum amount of verbal comments, in a convenient way during the timeframe allotted. If many people are interested in providing verbal comments in the one-on-one setting at any particular session, a time limit of 3 minutes may be implemented for each commenter.

Your verbal comments will be recorded by the Court Reporter. Transcripts of all comments from the sessions will be placed into the dockets for the projects, which are accessible for public viewing on the FERC's Web site (at www.ferc.gov) through our eLibrary system.

Commission staff will be available at each venue of the public sessions to answer questions about our environmental review process. It is important to note that written comments mailed to the Commission and those submitted electronically are reviewed by staff with the same scrutiny and consideration as the verbal comments given at the public sessions.

Any person seeking to become a party to the proceeding must file a motion to intervene pursuant to Rule 214 of the Commission's Rules of Practice and Procedures (18 CFR part 385.214).¹ Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

¹ See the previous discussion on the methods for filing comments.

Questions?

Additional information about the projects is available from the Commission's Office of External Affairs, at (866) 208-FERC, or on the FERC Web site (www.ferc.gov) using the eLibrary link. Click on the eLibrary link, click on “General Search,” and enter the docket number excluding the last three digits in the Docket Number field (i.e., CP15-554, CP15-555, or CP15-556). Be sure you have selected an appropriate date range. For assistance, please contact FERC Online Support at FERCOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp to subscribe.

Dated: December 30, 2016.
Kimberly D. Bose,
Secretary.

[FR Doc. 2017-00068 Filed 1-6-17; 8:45 am]

BILLING CODE 6717-01-P